DEPARTMENT OF THE INTERIOR

Bureau of Land Management

[LLCAD07000.51010000.ER0000.LVRWB09B1670 19X; CACA-44014, CACA-56477; MO#4500140313]

Notice of Availability of the Final Supplemental Environmental Impact Statement for the United States Gypsum Company Mine Expansion/Modernization Project, Imperial County, CA

AGENCY: Bureau of Land Management, Interior.

ACTION: Notice of availability.

SUMMARY: In accordance with the National Environmental Policy Act of 1969, as amended, the Bureau of Land Management (BLM) has prepared a Final Supplemental Environmental Impact Statement (EIS) analyzing the potential impacts of the United States Gypsum Company (USG) Mine Expansion and Modernization Project (Project), and by this notice is announcing its availability.

DATES: The BLM will not issue a final decision on the proposal for a minimum of 30 days after the date that the Environmental Protection Agency publishes its Notice of Availability in the Federal Register.

ADDRESSES: Copies of the Final Supplemental EIS are available for public inspection in the BLM El Centro Field Office at 1661 S 4th St, El Centro, CA 92243; at the BLM-California Desert District Office, 22835 Calle San Juan de los Lagos, Moreno Valley, CA 92553; and electronically on the project website: https://bit.ly/2QiGK0m.

Compact disc copies of the Final Supplemental EIS are available by request.

FOR FURTHER INFORMATION CONTACT: Miriam Liberatore, BLM Project Manager, by telephone at (541) 618-2400; by mail at Bureau of Land Management, Medford District Office, 3040 Biddle Road, Medford, OR 97504; or by email at mliberat@blm.gov.

Persons who use a telecommunications device for the deaf (TDD) may call the Federal Relay Service (FRS) at 1-800-877-8339 to contact Ms. Liberatore during normal business hours. The FRS is available 24 hours a day, 7 days a week, to leave a message. You will receive a reply during normal business hours.

SUPPLEMENTARY INFORMATION: The Project is located in southwestern Imperial County, California, and involves both the Plaster City Wallboard Plant (processing plant) and Plaster City Quarry (quarry). The processing plant is located on Evan Hewes Highway approximately 18 miles west of the city of El Centro. The quarry is located on Split Mountain Road approximately 26 miles northwest of Plaster City. Both sites are located within the BLM's California Desert Conservation Area.

A joint Draft Environmental Impact Report/Environmental Impact Statement (EIR/EIS) was published in 2006, and a Final EIR/EIS was published in 2008. The BLM did not issue a Record of Decision and the United States Army Corps of Engineers (USACE) was not a party to the EIR/EIS. This Supplemental EIS revises and supplements the 2008 Final EIR/EIS, updating conditions and effects that have changed since 2008, and includes the USACE and the United States Environmental Protection Agency (USEPA) as Cooperating Agencies.

Certain aspects of the Project originally analyzed in the 2006 Draft EIR/EIS and 2008 Final EIR/EIS have been implemented under the conditions and approvals provided by Imperial County and were not subject to the jurisdiction of the BLM or the USACE. The BLM will use the Final Supplemental EIS to support its decisions on the Mining Plan of Operations and on rights-of-way (ROW) applications to construct, operate, maintain, and decommission: (a) A new water line with associated buried electrical service between the quarry and a proposed new well (CACA-56477); (b) A new water line between US Gypsum's processing plant and the Imperial Irrigation District (IID) Westside Main Canal; and (c) A replacement line between USG's processing plant and existing wells in Ocotillo (CACA-44014).

The USACE will use the Final Supplemental EIS to support its decision on an application by USG for a permit under Section 404 of the Clean Water Act (CWA). The USEPA has authority to review projects requiring a CWA 404 permit, but does not have a direct permitting role in the project.

The Final Supplemental EIS considers the Proposed Action, a No-Action Alternative, and six action alternatives. Alternative 1, Proposed Action, would expand the quarry as described in the Mining Plan of Operations, replace the existing water line, and install a new water line between the quarry and the new well. Alternative 2, No Action, would continue operations as they currently are permitted without expanding the quarry or replacing the existing water line. Alternative 3, Partial IID Water Supply, would provide for a new water line between the processing plant and the IID Westside Main Canal to partially replace processing water from a groundwater source with a surface water source. Alternative 4, Full IID Water Supply, would fully replace the processing water with surface water. Alternatives 5 through 8 are variations on the mining plan proposed in the Mining Plan of Operations. The BLM has selected Alternative 3, Partial IID Water Supply, as the Agency-Preferred Alternative in the Final Supplemental EIS.

The BLM published a Notice of Availability of the Draft Supplemental EIS in the Federal Register on July 19, 2019, announcing a 45-day public comment period (84 FR 34924). The BLM held a public-comment meeting on August 5, 2019. Seven individuals attended the meeting. The BLM received 13 comment letters during the comment period. Following the public comment period, comments were used to inform the Final Supplemental EIS. The BLM responded to substantive comments and made appropriate revisions to the document, or explained why a comment did not warrant a change. Comments did not result in substantive changes to effects analysis, findings or conclusions.

(Authority: 40 CFR 1506.6, 40 CFR 1506.10, 43 CFR 1610.2)

Danielle Chi,
Deputy State Director, Resources.

[FR Doc. 2019-26288 Filed 12-5-19; 8:45 am]

BILLING CODE 4310-40-P